DEPARTMENT OF THE INTERIOR

Bureau of Land Management

[ID-074-1654-HB DD8V]

Notice of Proposed Closure of Warm Springs to Overnight Camping To Implement the Snake River Activity/Operations Plan, Upper Snake River District, ID

AGENCY: Bureau of Land Management, Interior.

SUMMARY: The BLM Idaho Falls Field Office proposes to close Warm Springs to overnight camping in accordance with 43 CFR 8365.1-6. The notice affects lands covered by one land use plan and one activity level plan. The Snake River Activity/Operations Plan described the certain lands as closed to overnight camping. The proposed closure implements this plan, and it will remain in effect permanently with the publication of the final notice. Day use access will still be permitted.

EFFECTIVE DATE: Effective May 19, 2003.

Legal Description

Warm Springs: Those portions of the following described lands lying east of the South Fork Snake River.

Boise Meridian, Idaho

Township 3N, Range 42 E, Section 12, Lots 3-6, 10 and 11: Section 13, Lots 10 and 11.

SUPPLEMENTARY INFORMATION: Two federally listed species inhabit the Warm Springs area, the bald eagle (Haliaeetus leucophealus; listed as threatened) and the Ute ladies'-tresses orchid (Spiranthes diluvialis; listed as threatened). The closure will help protect prime habitat for the two species; and protect watershed, wildlife, and scenic values.

A new parking area has been constructed at Warm Springs. Constructed facilities are designed and provided only to accommodate day-use recreational activities. The overnight camping closure is mitigation identified for the parking area construction under section 7 consultation with U.S. Fish and Wildlife Service (FWS). FWS concurrence with the construction was contingent on this stipulation. The closure limits recreation use in the area and limits human interaction with sensitive species.

The authority for this closure is found under section 303(a) of the Federal Land Policy and Management Act of 1976 (43 U.S.C. 1733(a) and 43 CFR 8365.1-6. Violation of this closure is punishable by a fine not to exceed $1,000.00 and/or imprisonment not to exceed 12 months. Persons who are exempt from these rules include members of any organized rescue or fire-fighting force in performance of an official duty. Other exemptions may apply for administrative or operational purposes.

Maps of the closure area and information may be obtained from the Idaho Falls Field Office.

FOR FURTHER INFORMATION CONTACT: Monica Zimmerman, Bureau of Land Management, Upper Snake River District, Idaho Falls Field Office, 1405 Hollipark Drive, Idaho Falls, Idaho 83401, (208) 524-7543.

Dated: March 18, 2003.
Glen Guenther,
Acting Idaho Falls Field Manager.

[FR Doc. 03-9376 Filed 4-16-03; 8:45 am]

BILLING CODE 4310-GG-P